DEPARTMENT OF HEALTH AND HUMAN SERVICES

Centers for Medicare & Medicaid Services

[Document Identifier: CMS-10769]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by August 2, 2021.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, you may make your request using one of following:

1. Access CMS' website address at website address at: https://www.cms.gov/Regulations-and-Guidance/Legislation/PaperworkReductionActof1995/PRA-Listing.html.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for a new OMB control number); Title of Information Collection: Evaluation of the Centers for Medicare & Medicaid Services (CMS) Network of Quality Improvement and Innovation Contractors (NQIIC); Use: The purpose of this Information Collection Request (ICR) is to collect data using telephone surveys to inform the program evaluation of the CMS NQIIC initiative. The purpose of NQIIC is to support quality improvement efforts across settings and programs for maximum impact to health care and value to taxpayers in a manner that aligns with CMS' and Department of Health and Human Services (HHS) priorities. The NQIIC quality improvement efforts involve the QIN-QIO Program, which is one of the largest federal programs dedicated to improving health quality for Medicare beneficiaries.

CMS evaluates the quality and effectiveness of the QIN-QIO Program as authorized in Part B of Title XI of the Social Security Act. This ICR is to conduct data collection using surveys with administrators or managers of nursing homes and hospitals. Subsequent to publishing the 60-day Federal Register notice on March 9, 2021 (86 FR 13566), CMS conducted pre-testing with nursing home and hospital administrators using cognitive interviews, which provided substantive input from the targeted respondents to make sure that questions are clearly stated and understood as intended. We have made the required changes to questions to optimize response validity before fielding the survey. There was a slight decrease in burden hours. Form Number: CMS-10769 (OMB control number: 0938-NEW); Frequency: Yearly; Affected Public: State and Private Sector (Business or other for-profits); Number of Respondents: 1,000; Total Annual Responses: 1,000; Total Annual Hours: 290. (For policy questions regarding this collection, contact Jeff Mokry at 214-767-4021.)

Dated: June 29, 2021.
William N. Parham, III,
Director, Paperwork Reduction Staff, Office of Strategic Operations and Regulatory Affairs.

[FR Doc. 2021-14227 Filed 7-1-21; 8:45 am]

BILLING CODE 4120-01-P